DEPARTMENT OF ENERGY

Federal Energy Regulatory Commission

Project No: P-803-087

Pacific Gas and Electric Company; Notice of Application Tendered for Filing with the Commission and Establishing Procedural Schedule for Licensing and Deadline for Submission of Final Amendments

October 9, 2007.

Take notice that the following hydroelectric application has been filed with the Commission and is available for public inspection.

a. Type of Application: New Major License.

b. Project No.: P-803-087.

c. Date Filed: October 2, 2007.

d. Applicant: Pacific Gas and Electric Company (PG&E).

e. Name of Project: DeSabla-Centerville Hydroelectric Project.

f. Location: The existing project is located on Butte Creek and the West Branch Feather River in Butte County, California. The project affects 145.7 acres of federal lands administered by the Lassen National Forest, 2.1 acres of federal lands administered by the Plumas National Forest, and 11.6 acres of federal lands administered by the U.S. Bureau of Land Management.

g. Filed Pursuant to: Federal Power Act 16 U.S.C. 791(a)-825(r).

h. Applicant Contact: Randal S. Livingston, Vice President-Power Generation, Pacific Gas and Electric Company, P.O. Box 770000, Mail Code: N11E, San Francisco, CA 94177; Telephone (415) 973-7000.

i. FERC Contact: Aaron Liberty, (202) 502-6862 or aaron.liberty@ferc.gov.

j. This application is not ready for environmental analysis at this time.

k. Project Description: The existing DeSabla-Centerville Hydroelectric Project is composed of three developments, including Toadtown, DeSabla, and Centerville, and has a combined installed capacity of 26,400 kilowatts (kW).

The Toadtown development, which diverts water from the West Branch Feather River, consists of the following constructed facilities: (1) Round Valley Reservoir, a 98 acre reservoir with a gross storage capacity of 1,700 acre-feet; (2) Round Valley dam, an earthfill dam, 29-feet high and 810-feet long; (3) a 40-foot wide overflow spillway; (4) a 15-inch outlet pipe at the base of Round Valley dam, and manual low level outlet valve; (5) Philbrook Reservoir, a 173 acre reservoir with a gross storage capacity of 4,985 acre-feet; (6) Philbrook main dam (located on Philbrook Creek), a compacted earthfill dam, 87-feet high and 850-feet long; (7) Philbrook auxiliary dam (170 feet to the right of the main dam), a compacted earthfill dam, 24-feet high and 470-feet long; (8) a 29.7-foot wide spillway with 5 flashboard bays; (9) a 10.75-foot long and 14.75-foot wide spillway with a single, manual radial gate; (10) a 33-inch diameter, 460-foot long outlet conduit from Philbrook Reservoir; (11) a 17-foot high, 8-feet diameter submerged vertical concrete intake, controlled by a 30-inch diameter manual needle valve; (12) Hendricks Head Dam, a concrete gravity dam, 15-feet high with an overflow spillway section 98-feet wide; (13) a 8.66-mile long Hendricks Canal, composed mostly of earthen ditch with several flume and tunnel sections, with a capacity of 125 cfs; (14) feeder diversions from 4 creeks into Hendricks/Toadtown canal; (15) a 40-inch diameter, 1,556-foot long steel penstock; (16) Toadtown Powerhouse, a 28 by 44 foot reinforced concrete building, with one turbine-generator unit and a normal operating capacity of 1.5 MW; (17) a 1500-foot long 12 kv tapline connecting Toadtown Powerhouse to a distribution system; and (18) appurtenant facilities.

The DeSabla development, which diverts water from upper Butte Creek and uses the outflow of the Toadtown development, consists of the following constructed facilities: (1) The 2.4-mile long Toadtown Canal, an earthen canal with a capacity of 125 cfs; (2) Butte Creek Diversion Dam, a 50-foot high, 100-foot long, concrete arch dam with an overflow spillway; (3) a 11.4-mile long Butte Canal, composed of earthen berm sections, gunited sections, tunnel sections, a siphon, and flume sections, with a capacity of 91 cfs; (4) a 0.7-mile long canal that combines Butte Canal with Toadtown Canal, with a capacity of 191 cfs; (5) feeder diversions from 4 creeks that flow into Butte Canal (1 not in use); (6) DeSabla Dam, a 50-foot high, 100-foot wide earthen embankment with a spillway canal; (7) DeSabla Forebay, a 15 acre reservoir with a gross storage capacity of 163 acre-feet (originally 188 acre-feet); (8) a 66-inch diameter, reduced to 42-inch diameter, 1.3-mile long steel penstock; and (9) DeSabla Powerhouse, a 26.5 by 41 foot reinforced concrete building, with one turbine generator unit and a normal operating capacity of 18.5 MW; (10) a 0.25-mile long transmission tapline connecting DeSabla Powerhouse to the 60kV Oro Fino Tap Line; and (11) appurtenant facilities.

The Centerville development, which diverts the flow of Butte Creek downstream of the DeSabla development, consists of the following constructed facilities: (1) The Upper Centerville Canal, that originates at DeSabla Powerhouse and ends at Helltown Ravine (currently carries a few cfs for local water uses and has not been used for power generation for many years); (2) Lower Centerville Diversion Dam, a 12-foot high, 72.5 foot-wide concrete arch dam with an overflow spillway; (3) an 8-mile long Lower Centerville Canal, composed of earthen canal and several flume sections, with a capacity of 183 cfs; (4) feeder diversions from 3 creeks that flow into Lower Centerville Canal (all 3 no longer in use); (5) one 30-inch diameter and one 42-inch diameter, reduced to 36-inch diameter, 2,559-foot long steel penstocks; (6) Centerville Forebay, a 27 by 37 foot concrete header box with a spillway channel; (7) Centerville Powerhouse, a 32 by 109 foot reinforced concrete building, with two turbine-generator units and a total normal operating capacity of 6.4 MW; and (8) appurtenant facilities.

PG&E operates the project primarily as a run-of-river system and operates on a continuous basis, using the water supply available after satisfaction of the minimum instream flow requirements. During the winter and spring, base flows in the West Branch of the Feather River and Butte Creek typically provide adequate flow for full operation of the Project powerhouses. During the summer months, the available base flow water is augmented by water releases from Round Valley and Philbrook reservoirs. During the fall months, Project powerhouses are operated at reduced capacities due to low stream flows.

Water releases from Round Valley reservoir flow down the West Branch Feather River, and water releases from Philbrook reservoir pass down natural channels of Philbrook Creek and the West Branch Feather River about 8 miles to Hendricks Head dam. Then water is conveyed in the Hendricks canal, through Toadtown Powerhouse, then into the Toadtown canal. From this point, the water is conveyed in the Butte Creek canal to DeSabla Forebay then discharged into Butte Creek. Water flow is then diverted into the Lower Centerville canal to the Centerville header box, through the Centerville Powerhouse, and finally discharged to Butte Creek.

PG&E proposes to continue operating the Project with no change to Project generation facilities or features other than adoption of resource management measures and the deletion of five feeder diversions.

l. Locations of the Application: A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item (h) above.

m. You may also register online at http://www.ferc.gov/esubscribenow.htm to be notified via e-mail of new filings and issuances related to this or other pending projects. For assistance, contact FERC Online Support.

n. Procedural Schedule: The application will be processed according to the following Hydro Licensing Schedule. Revisions to the schedule may be made as appropriate.

Milestone | Target date
Tendering Notice | October 9, 2007.
Remaining Study Results Due | February 15, 2008.
Notice of Acceptance / Notice of Ready for Environmental Analysis | March 17, 2008.
Filing of recommendations, preliminary terms and conditions, and fishway prescriptions | May 16, 2008.
Commission issues Draft EA | November 12, 2008.
Comments on Draft EA | December 12, 2008.
Modified terms and conditions | February 10, 2009.
Commission issues Final EA | May 11, 2009.

o. Final amendments to the application must be filed with the Commission no later than 30 days from the issuance date of the notice of ready for environmental analysis.

Kimberly D. Bose,
Secretary.

[FR Doc. E7-20318 Filed 10-15-07; 8:45 am]

BILLING CODE 6717-01-P